DEPARTMENT OF DEFENSE

Department of the Army; Corps of Engineers

Extension of Scoping Period for the Draft Environmental Impact Statement/Environmental Impact Report for a Proposed Marine Terminal Development at Pier S in the Port of Long Beach, Los Angeles County, CA

AGENCY: U.S. Army Corps of Engineers, Los Angeles District, DoD.

ACTION: Notice of intent—extension of scoping period.

SUMMARY: The U.S. Army Corps of Engineers (Corps) is considering the development of Pier S Marine Terminal Project (Proposed Action). The development of Pier S would result in a 160-acre marine container terminal, and would include four elements: dredging, wharf construction, and container cranes; container yard; terminal buildings and truck gates; and an intermodal rail yard.

The primary Federal concern is the dredging and discharging of materials within waters of the U.S. and potential impacts on the human environment. Under Section 404 of the Clean Water Act, the Corps is authorized to approve discharges of dredged or fill material into waters of the U.S. Under section 10 of the Rivers and Harbors Act, the Corps may authorize activities that could affect navigable waters. The Corps is preparing an Environmental Impact Statement (EIS) pursuant to the National Environmental Policy Act (NEPA) prior to deciding whether or not to authorize the Proposed Action. The Corps may ultimately make a determination to permit or deny the Proposed Action, or permit or deny alternatives to the Proposed Action.

Pursuant to the California Environmental Quality Act (CEQA), the Port will serve as Lead Agency for the preparation of an Environmental Impact Report (EIR) for its consideration of development approvals within its jurisdiction. The Corps and the Port have agreed to jointly prepare a Draft EIS/EIR in order to optimize efficiency and avoid duplication. The Draft EIS/EIR is intended to be sufficient in scope to address federal, state, and local requirements and environmental issues concerning the proposed activities and permit approvals.

Scoping Process and Availability of the Draft: The Corps previously published its NOI in the Federal Register on September 12th, 2003. For further information, please consult the original NOI publication.

The Corps and the Port will jointly conduct a scoping meeting for the proposed project. English and Spanish translation services will be provided at the meeting. The public scoping meeting will be held to receive public comment and assess public concerns regarding the appropriate scope of the Draft EIS/EIR. Participation in the public meeting by federal, state and local agencies and other interested organizations and persons are encouraged. Parties interested in being added to the Corps' electronic mail notification list for the Pier S marine terminal project or other projects in the Port of Long Beach can register at: http://www.spl.usace.army.mil/regulatory/register.html. This list will be used in the future to notify the public about scheduled hearings and availability of future public notices.

The Corps of Engineers will also be consulting with the U.S. Fish and Wildlife Service under the Endangered Species Act and Fish and Wildlife Coordination Act, and with the National Marine Fisheries Service under the Magnuson-Stevens Act. Additionally, the EIS/EIR will assess the consistency of the proposed Action with the Coastal Zone Management Act and potential water quality impacts pursuant to Section 401 of the Clean Water Act.

The public scoping meeting for the Draft EIS/EIR will be held on September 25th, 2003, at 6 p.m, at the Port of Long Beach administration building. The Corps and the Port will separately transmit local notices of the meeting prior to the event. Written comments will now be received until October 17th, 2003. The Draft EIS/EIR is expected to be published and circulated sometime between Winter 2003 and Spring 2004, and a new public notice and public hearing will be held after its publication.

FOR FURTHER INFORMATION CONTACT: Questions about the proposed action and Draft EIS/EIR can be answered by Mr. Joshua Burnam, Corps Project Manager, at 213-452-3294. Comments regarding the scope of the Draft EIS/EIR shall be addressed to: U.S. Army Corps of Engineers, Los Angeles District, Regulatory Branch, ATTN: File Number 1999-16479-JLB, P.O. Box 532711, Los Angeles, California 90053-2325. Copies should also be sent to Stacey Crouch, Port of Long Beach, P.O. Box 570, Long Beach, CA 90801-0570.

Richard G. Thompson,
Colonel, U.S. Army, District Engineer.

[FR Doc. 03-25203 Filed 10-3-03; 8:45 am]

BILLING CODE 3710-92-P